DEPARTMENT OF AGRICULTURE

Food Safety and Inspection Service

[Docket No. FSIS-2020-0018]

Notice of Request for Renewal of an Approved Information Collection (In-Home Food Safety Behaviors and Consumer Education: Web-Based Survey)

AGENCY: Food Safety and Inspection Service, USDA.

ACTION: Notice and request for comments.

SUMMARY: In accordance with the Paperwork Reduction Act of 1995 and the Office of Management and Budget (OMB) regulations, the Food Safety and Inspection Service (FSIS) is announcing its intention to request renewal of the approved information for an exploratory Web-based survey of consumers to evaluate food safety education and communication activities and to inform the development of food safety communication products. There are no changes to the existing information collection. The approval for this information collection will expire on October 31, 2020.

DATES: Submit comments on or before July 27, 2020.

ADDRESSES: FSIS invites interested persons to submit comments on this Federal Register notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2020-0018. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION: Title: In-Home Food Safety Behaviors and Consumer Education: Web-Based Survey.

OMB Number: 0583-0178.

Expiration Date of Approval: 10/31/2020.

Type of Request: Renewal of an approved information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

FSIS's Office of Public Affairs and Consumer Education (OPACE) develops consumer education programs concerning the safe handling, preparation, and storage of meat, poultry, and processed egg products, so as to improve consumer food handling behaviors and minimize the incidence of foodborne illness. OPACE shares its food safety messages through various outlets: The Food Safe Families campaign, a cooperative effort of USDA, Food and Drug Administration, and Centers for Disease Control and Prevention; Ask USDA; the Meat and Poultry Hotline, an interactive knowledge management system consumers can use to get answers from USDA employees via phone, chat, email and a frequently asked question database; the FSIS website; social media; and public events. These messages are focused on the four core food safety behaviors: Clean, separate, cook, and chill.

By testing planned and tailoring existing communication programs and materials, FSIS can help to ensure that it is effectively communicating with the public to improve consumer food safety practices. As part of ongoing activities by OPACE to develop and evaluate its public health education and communication activities, FSIS is requesting renewal of the approved information collection to conduct exploratory Web-based surveys of consumers. Findings from these surveys will provide information about how FSIS communication programs and materials affect consumer understanding of recommended safe food handling practices, as well as insight into how to effectively inform consumers about recommended practices. The findings will be used to enhance communication programs and materials developed to improve consumers' food safety behaviors and help prevent foodborne illness. Additionally, this research will provide useful information for tracking progress toward the goals outlined in the FSIS Fiscal Years 2017-2021 Strategic Plan.

FSIS has contracted with RTI International to conduct two iterations of a web-based survey. The first survey was conducted in Fiscal Year (FY) 2019 and the second survey will be conducted in FY 2021. Each iteration of the exploratory survey is designed to collect information from 2,400 randomly selected English-speaking adult members of a probability-based Web-enabled research panel maintained by a subcontractor.

The survey is designed to be representative of the U.S. adult population. This representation is achieved through address-based sampling (ABS), where every U.S. adult with an address (including those who do not have a landline phone number) has an equal probability of being selected for participation on the panel. A random sample of individuals will be selected from the panel for participation in the survey. A pilot will be conducted before the survey to test the survey instrument and procedures.

The first iteration of the survey collected information on consumer use of and response to the Meat and Poultry Hotline, consumer awareness of The Food Safe Families campaign, and consumer behaviors for preparing raw meat and poultry products. The second iteration of the survey will pilot a food safety literacy measure on consumers' awareness and understanding of recommended food safety practices and gather nationally representative data on updates to FSIS' recall templates used to communicate life-saving public health information to the public and the media.

Estimate of Burden: The total estimated burden for each iteration of the survey is 978.2 hours, for a total burden of 1,956.4 hours. To achieve 80 completed surveys during the pretest, 146 randomly selected panel members will be invited via email to take the survey. To achieve 2,400 completed surveys during the full-scale study, 4,400 randomly selected panel members will be invited via email to take the survey. Therefore, a total of 4,546 (146 + 4,400) potential panel members will be invited to participate in both the pretest and the full-scale study for each iteration of the survey. The invitation email for the pretest and the full-scale survey is expected to take 2 minutes (0.03333 hour). Each survey is expected to take 20 minutes (0.33333 hours) to complete.

Estimated Annual Reporting Burden for the FY 2019 Web-Based Consumer Survey
Study component | Estimated number of respondents | Annual frequency per response | Total annual responses | Hours per response | Total hours
Pretest Invitation | 146 | 1 | 146 | 0.03333 (2 min.) | 4.87
Pretest 1 | 80 | 1 | 80 | 0.33333 (20 min.) | 26.67
Survey Invitation | 4,400 | 1 | 4,400 | 0.03333 (2 min.) | 146.67
Survey 1 | 2,400 | 1 | 2,400 | 0.33333 (20 min.) | 800
Total | 4,546 |  |  |  | 978.2
1 A subset of the people who received the invitation.

Estimated Annual Reporting Burden for the FY 2021 Web-Based Consumer Survey
Study component | Estimated number of respondents | Annual frequency per response | Total annual responses | Hours per response | Total hours
Pretest Invitation | 146 | 1 | 146 | 0.03333 (2 min.) | 4.87
Pretest 1 | 80 | 1 | 80 | 0.033333 (20 min.) | 26.67
Survey Invitation | 4,400 | 1 | 4,400 | 0.03333 (2 min.) | 146.67
Survey 1 | 2,400 | 1 | 2,400 | 0.033333 (20 min.) | 800
Total | 4,546 |  |  |  | 978.2
1 A subset of the people who received the invitation.

Respondents: Consumers.

Estimated No. of Respondents: 9,092.

Estimated No. of Annual Responses per Respondent: 1.

Estimated Total Burden on Respondents: 1,956.4 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Paul Kiecker,
Administrator.

[FR Doc. 2020-11269 Filed 5-26-20; 8:45 am]

BILLING CODE 3410-DM-P